DEPARTMENT OF THE INTERIOR

Minerals Management Service

30 CFR Parts 250, 270, 281, and 282

[Docket ID: MMS-2007-OMM-0070]

RIN 1010-AD49

Outer Continental Shelf Regulations—Technical Corrections

AGENCY: Minerals Management Service (MMS), Interior.

ACTION: Final rule.

SUMMARY: This document makes minor technical changes to regulations that were published in various Federal Register documents and are codified in the Code of Federal Regulations. These changes will correct various citations and typographical errors in 30 CFR parts 250, 270, 281, and 282.

DATES: Effective on April 15, 2008.

FOR FURTHER INFORMATION CONTACT: Cheryl Blundon, Regulatory Specialist at (703) 787-1607, fax (703) 787-1555, or e-mail cheryl.blundon@mms.gov.

SUPPLEMENTARY INFORMATION: Background: The technical corrections in this document affect all offshore operators, lessees, pipeline right-of-way holders, and permittees. The corrections are necessary to correct citation and typographical errors, and to add or change a few words for clarification. Obsolete information is being removed, since the grace period that was written into the initial rule is no longer valid. Also, when some rules were previously written in “plain English,” words were inadvertently dropped that are now being put back. This will make the regulations easier to read, understand, and follow.

This document corrects regulations in 30 CFR parts 250, 270, 281, and 282 to reflect these changes. Because this rule makes no substantive change in any rule or requirement and has no significant impact on industry or the public, MMS, for good cause, finds that notice and public comment are unnecessary pursuant to 5 U.S.C. 553(b)(B). Furthermore, MMS, for good cause, finds that no period of time is necessary to enable industry or the public to come into compliance with this rule; and therefore provides that the rule is effective upon this publication pursuant to 5 U.S.C. 553(d).

Procedural Matters

Regulatory Planning and Review (Executive Order (E.O.) 12866)

This final rule is not a significant rule as determined by the Office of Management and Budget (OMB) and is not subject to review under E.O. 12866.

(1) This final rule will not have an effect of $100 million or more on the economy. It will not adversely affect in a material way the economy, productivity, competition, jobs, the environment, public health or safety, or State, local, or tribal governments or communities.

(2) This final rule will not create a serious inconsistency or otherwise interfere with an action taken or planned by another agency.

(3) This final rule will not alter the budgetary effects of entitlements, grants, user fees, or loan programs or the rights or obligations of their recipients.

(4) This final rule will not raise novel legal or policy issues.

Regulatory Flexibility Act

The Department of the Interior certifies that this final rule will not have a significant economic effect on a substantial number of small entities under the Regulatory Flexibility Act (5 U.S.C. 601 et seq.).

Your comments are important to us. The Small Business and Agriculture Regulatory Enforcement Ombudsman and 10 Regional Fairness Boards were established to receive comments from small business about Federal agency enforcement actions. The Ombudsman will annually evaluate the enforcement activities and rate each agency's responsiveness to small business. If you wish to comment on the actions of MMS, call 1-888-734-3247. You may comment to the Small Business Administration without fear of retaliation. Disciplinary action for retaliation by an MMS employee may include suspension or termination from employment with the Department of the Interior.

Small Business Regulatory Enforcement Fairness Act

This final rule is not a major rule under 5 U.S.C. 804(2), the Small Business Regulatory Enforcement Fairness Act. This final rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises.

Unfunded Mandates Reform Act

This final rule will not impose an unfunded mandate on State, local, or tribal governments or the private sector of more than $100 million per year. This final rule will not have a significant or unique effect on State, local, or tribal governments or the private sector. A statement containing the information required by the Unfunded Mandates Reform Act (2 U.S.C. 1531 et seq.) is not required.

Takings Implication Assessment (E.O. 12630)

Under the criteria in E.O. 12630, this final rule does not have significant takings implications. This rule is not a governmental action capable of interference with constitutionally protected property rights. A Takings Implication Assessment is not required.

Federalism (E.O. 13132)

Under the criteria in E.O. 13132, this final rule does not have sufficient federalism implications to warrant the preparation of a Federalism Assessment. This rule will not substantially and directly affect the relationship between the Federal and State governments. To the extent that State and local governments have a role in OCS activities, this rule will not affect that role. A Federalism Assessment is not required.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (E.O. 13175)

Under the criteria in E.O. 13175, we have evaluated this final rule and determined that it has no potential effects on federally recognized Indian tribes. There are no Indian or tribal lands in the OCS.

Paperwork Reduction Act

The Paperwork Reduction Act (PRA) provides that an agency may not conduct or sponsor a collection of information unless it displays a currently valid OMB control number. Until OMB approves a collection of information and assigns a control number, you are not required to respond to the collection of information. This final rule does not contain any new information collection requirements subject to the PRA, nor does it affect any previously approved collections; therefore, the rule does not require a submittal to OMB for review and approval under section 3507(d) of the PRA. Any information collection burdens referenced in this rulemaking are already approved under OMB Control Numbers 1010-0114, expiration November 30, 2010; 1010-0151, expiration July 31, 2008; 1010-0059, expiration February 28, 2009; 1010-0149 expiration March 31, 2008; 1010-0128 expiration August 31, 2009; and 1010-0086 expiration December 31, 2010, respectively.

National Environmental Policy Act

This rule does not constitute a major Federal action significantly affecting the quality of the human environment. The MMS has analyzed this rule under the criteria of the National Environmental Policy Act and 516 Departmental Manual 2, Appendix 1.10. and determined that it falls within the categorical exclusion for “regulations * * * that are of an administrative, financial, legal, technical, or procedural nature and whose environmental effects are too broad, speculative, or conjectural to lend themselves to meaningful analysis.” The MMS completed a Categorical Exclusion Review for this action and concluded that the rulemaking does not represent an exception to the established criteria for categorical exclusion; therefore, preparation of an environmental analysis or environmental impact statement will not be required.

Data Quality Act

In developing this rule, we did not conduct or use a study, experiment, or survey requiring peer review under the Data Quality Act (Pub. L. 106-554, app. C section 515, 114 Stat. 2763, 2763A-153-154).

Effects on the Energy Supply (E.O. 13211)

This rule is not a significant energy action under the definition in E.O. 13211. A Statement of Energy Effects is not required.

Determination To Not Issue a Proposed Rule

The MMS has determined that the good cause exception in 5 U.S.C. 553(b)(3)(B) applies to this rule. The good cause exception allows an agency to dispense with the notice and public procedure when the agency finds for good cause that those requirements are impractical, unnecessary, and contrary to the public interest. Because this rule merely makes technical changes, it makes an administrative change and public comment is unnecessary.

Determination To Make Rule Effective Immediately

Because this rule makes technical changes only, MMS has determined it appropriate to make the rule effective immediately, as allowed under 5 U.S.C. 553(d).

List of Subjects

30 CFR Part 250

Administrative practice and procedures, Continental shelf, Environmental protection, Oil and gas exploration, Public lands—minerals resources, Public lands—rights-of-way.

30 CFR Part 270

Continental shelf, Nondiscrimination, Oil and gas exploration.

30 CFR Part 281

Administrative practice and procedure, Continental shelf, Mineral royalties, Public lands—mineral resources, Reporting and recordkeeping requirements.

30 CFR Part 282

Administrative practice and procedure, Continental shelf, Public lands—mineral resources.

Dated: March 28, 2008.
C. Stephen Allred,
Assistant Secretary—Land and Minerals Management.

For the reasons stated above, MMS amends 30 CFR parts 250, 270, 281, and 282 as follows:

PART 250—OIL AND GAS AND SULPHUR OPERATIONS IN THE OUTER CONTINENTAL SHELF

1. The authority citation for part 250 is revised to read as follows:

Authority: 31 U.S.C. 9701, 43 U.S.C. 1334.

§ 250.107 [Amended]

2. In § 250.107(a)(2), after the word “equipment” add the words “and work areas”.

§ 250.260 [Amended]

3. In § 250.260(a), the citation “15 CFR 930.76(d)” is revised to read “15 CFR 930.76(c)”.

§ 250. 803 [Amended]

4. In § 250.803 the following additions are made:

A. In § 250.803(b)(8), in the first sentence, after the phrase “API RP 14G” add the parenthetical phrase “(incorporated by reference as specified in § 250.198)”.

B. In § 250.803(b)(9)(i), in the last sentence, after the phrase “API RP 500” and the phrase “API RP 505” add the parenthetical phrase “(incorporated by reference as specified in § 250.198)”.

5. In § 250.806(c), revise the second sentence to read as follows:

§ 250.806 Safety and pollution prevention equipment quality assurance requirements.

* * * * *

(c) * * * If you want MMS to evaluate other quality assurance programs, submit relevant information about the program and reasons for recognition by MMS to the Chief, Office of Offshore Regulatory Programs; Minerals Management Service; MS-4020; 381 Elden Street, Herndon, Virginia 20170-4817.

§ 250.900 [Amended]

6. In § 250.900(a), in the first sentence, after the word “You,” add the word “must”.

§ 250.1201 [Amended]

7. In § 250.1201, remove the definition of Calibration, revise the definition of Surface commingling, and add in alphabetical order a new definition of Verification/Calibration, to read as follows:

§ 250.1201 Definitions.

* * * * *

Surface commingling—the surface mixing of production from two or more leases and/or unit participating areas prior to royalty measurement.

* * * * *

Verification/Calibration—testing and correcting, if necessary, a measuring device to ensure compliance with industry accepted, manufacturer's recommended, or regulatory required standard of accuracy.

* * * * *

§ 250.1202 [Amended]

8. In § 250.1202(k)(3) and (4), in the first sentence, after the word “Prove”, add the word “operating”.

§ 250.1204 [Amended]

9. In § 250.1204(b)(1), after the word “months” insert the parenthetical phrase “(1 time every 60 days)”.

§ 250.1301 [Amended]

10. Amend § 250.1301 by revising paragraphs (b) and (c) to read as follows:

§ 250.1301 What are the requirements for unitization?

* * * * *

(b) Compulsory unitization. The Regional Supervisor may require you and other lessees to unitize operations of a reasonably delineated and productive reservoir if unitized operations are necessary to:

(1) Prevent waste;

(2) Conserve natural resources; or

(3) Protect correlative rights, including Federal royalty interests.

(c) Unit area. The area that a unit includes is the minimum number of leases that will allow the lessees to minimize the number of platforms, facility installations, and wells necessary for efficient exploration, development, and production of mineral deposits, oil and gas reservoirs, or potential hydrocarbon accumulations common to two or more leases. A unit may include whole leases or portions of leases.

* * * * *

§ 250.1502 [Amended]

11. Remove § 250.1502.

§ 250.1629 [Amended]

12. In §§ 250.1629(b)(1) and (b)(1)(i), after the phrase “I, IV, and VIII of the American Society of Mechanical Engineers (ASME) Boiler and Pressure Vessel Code” add the parenthetical phrase “(incorporated by reference as specified in 30 CFR 250.198)”.

PART 270—NONDISCRIMINATION IN THE OUTER CONTINENTAL SHELF

13. The authority citation for part 270 is revised to read as follows:

Authority: 43 U.S.C. 1863.

§ 270.6 [Amended]

14. In § 270.6, revise the last sentence to read as follows:

§ 270.6 Process.

* * * If either the complainant or the person(s) alleged to have wrongfully discriminated fail to provide such written notice within a reasonable period of time, the Regional Director must proceed in accordance with the provisions of 30 CFR 250, subpart N.

PART 281—LEASING OF MINERALS OTHER THAN OIL, GAS, AND SULPHUR IN THE OUTER CONTINENTAL SHELF

15. The authority citation for part 281 is revised to read as follows:

Authority: 43 U.S.C. 1334.

§ 281.0 [Amended]

16. In § 281.0, the last sentence is revised to read “An applicant must respond to obtain or retain a benefit.”

§ 281.26 [Amended]

17. In § 281.26 revise the second sentence of paragraph (e) and revise paragraph (i) to read as follows:

§ 281.26 Payments.

* * * * *

(e) * * * The single responsible person shall be designated as the payor for the lease and shall be so identified on the Solid Minerals Production and Royalty Report (P & R) (MMS-4430) in accordance with § 210.201of this title. * * *

* * * * *

(i) All payors must submit payments and payment forms and maintain auditable records in accordance with 30 CFR Chapter II, Subchapter A—Minerals Revenue Management.

PART 282—OPERATIONS IN THE OUTER CONTINENTAL SHELF FOR MINERALS OTHER THAN OIL, GAS, AND SULPHUR

18. The authority citation for part 282 is revised to read as follows:

Authority: 43 U.S.C 1334.

§ 282.40 [Amended]

19. Revise § 282.40, paragraph (f), to read as follows:

§ 282.40 Bonds.

* * * * *

(f) For the purposes of this section there are three areas:

(1) The Gulf of Mexico and the area offshore the Atlantic Ocean;

(2) The area offshore the Pacific Coast States of California, Oregon, Washington, and Hawaii; and

(3) The area offshore the coast of Alaska.

* * * * *

[FR Doc. E8-7776 Filed 4-14-08; 8:45 am]

BILLING CODE 4310-MR-P